DEPARTMENT OF TRANSPORTATION

Surface Transportation Board

[STB Finance Docket No. 35074]

BIP Acquisition Sub, Inc.—Acquisition and Operation Exemption—Mittal Steel USA—Railways Inc.

BIP Acquisition Sub, Inc. (BIP), a noncarrier, has filed a verified notice of exemption under 49 CFR 1150.31 to acquire from Mittal Steel USA—Railways Inc. and operate approximately 183 miles of rail line in and around Sparrows Point, MD.¹

¹ See Mittal Steel Company N.V.—Acquisition of Control Exemption—ISG Railways Inc., ISG South Chicago & Indiana Harbor Railway Co., and ISG Cleveland Works Railway Co., STB Finance Docket No. 34650 (STB served May 3, 2005).

BIP has certified that its projected annual revenues as a result of this transaction will not exceed those that would qualify it as a Class III railroad. Because BIP's projected annual revenues will exceed $5 million, however, it has certified to the Board, on August 10, 2007, that it sent the required notice of the transaction to the national and local offices of the United Steelworkers Union, which represents employees on the affected lines, and posted a copy of the notice at the workplace of the employees on the affected lines on August 9, 2007. See 49 CFR 1150.32(e). BIP states that it intends to consummate the transaction on or after September 10, 2007, and will seek a waiver of the Board's 60-day labor notice requirement at 49 CFR 1150.32(e) to do so. Unless the Board grants a waiver, BIP may not consummate the transaction prior to the current October 9, 2007 effective date of the exemption.

If the verified notice contains false or misleading information, the exemption is void ab initio. Petitions to revoke the exemption under 49 U.S.C. 10502(d) may be filed at any time. The filing of a petition to revoke will not automatically stay the transaction. Petitions to stay must be filed no later than 7 days before the exemption becomes effective.

An original and 10 copies of all pleadings, referring to STB Finance Docket No. 35074, must be filed with the Surface Transportation Board, 395 E Street, SW., Washington, DC 20423-0001. In addition, a copy of each pleading must be served on: Gavin M. O'Connor, McGuire Woods LLP, 625 Liberty Avenue, 23rd Floor, Pittsburgh, PA 15222.

Board decisions and notices are available on our Web site at http://www.stb.dot.gov.

Decided: August 16, 2007.
By the Board, Joseph H. Dettmar, Acting Director, Office of Proceedings.
Vernon A. Williams,
Secretary.

[FR Doc. E7-16466 Filed 8-23-07; 8:45 am]

BILLING CODE 4915-01-P